DEPARTMENT OF LABOR

Office of the Secretary

Submission for OMB Review: Comment Request

December 13, 2005.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Notice of Final Payment or Suspension of Compensation Benefits.

OMB Number: 1215-0024.

Form Number: LS-208.

Frequency: On occasion.

Type of Response: Reporting.

Affected Public: Business or other for-profit.

Number of Respondents: 500.

Annual Responses: 22,722.

Average Response Time: 15 minutes.

Estimated Annual Burden Hours: 5,681.

Total Annualized capital/startup costs: $0.

Total Annual Costs (operating/maintaining systems or purchasing services): $16,140.00.

Description: The Office of Workers' Compensation Programs administers the Longshore and Harbor Workers' Compensation Act. The Act provides benefits to workers injured in maritime employment on the navigable waters of the United States or in an adjoining area customarily used by an employee in loading, unloading, repairing, or building a vessel. Under section 914(g) of the Longshore Act, the employer or its insurance carrier must file a report of the compensation paid to a claimant at the time final payment is made. The Act requires that the form must be filed within 16 days of the final payment of compensation with the District Director in the compensation district in which the injury occurred. Form LS-208 requests information regarding the beginning and ending dates of compensation payments, compensation rates, reason payments were terminated and types and amounts of compensation payments.

Agency: Employment Standards Administration.

Type of Review: Extension of currently approved collection.

Title: Work Experience and Career Exploration Programs (29 CFR Part 570.35a).

OMB Number: 1215-0121.

Form Number: None.

Frequency: Biannually.

Type of Response: Reporting; Recordkeeping; and Third party disclosure.

Affected Public: Individuals or households and State, Local, or Tribal Government.

Number of Respondents: 14,014.

Annual Responses: 14,014.

Average Response Time: 2 hours for state application; 1 hour for written training agreement; and one-half minute to file a record.

Estimated Annual Burden Hours: 14,145.

Total Annualized capital/startup costs: $0.

Total Annual Costs (operating/maintaining systems or purchasing services): $0.

Description: The Fair Labor Standards Act (FLSA), 29 U.S.C. 201 et seq., section (3)(l) establishes a minimum age of 16 years for most nonagricultural employment but allows the employment of 14- and 15 year olds in occupations other than manufacturing and mining, if the Secretary of Labor determines such employment is confined to (1) periods that will not interfere with the minor's schooling and (2) conditions that will not interfere with the minor's health and well-being. FLSA section 11(c) requires all employers covered by the FLSA to make, keep and preserve records of their employees' wages, hours and other conditions and practices of employment. Regulations issued by the Secretary of Labor prescribe the recordkeeping and reporting requirements for these records. Subpart C of Regulations, 29 CFR part 570, Child Labor Regulations, Orders and Statements of Interpretation, sets forth the employment standards for 14- and 15-year olds (CL Reg. 3). Regulations 29 CFR 570.35a contains the requirements describing the criteria for use, occupations permitted and conditions of employment that allow employment of 14- and 15-year olds-pursuant to a school-supervised and school administered Work Experience and Career Exploration Program (WECEP)—under the conditions CL Reg. 3 otherwise prohibits. In order to utilize the CL Reg. 3 WECEP provisions, regulations 29 CFR 570.35(b)(2) requires a state educational agency to file an application for approval of a state WECEP program as one not interfering with schooling or with the health and well-being of the minors involved. Regulations 29 CFR 570.35a(b)(3)(vi) requires preparation of a written training agreement for each student participating in a WECEP and that such agreement be signed by the teacher, coordinator, employer and student. The regulation also requires the student's parent or guardian to sign or otherwise consent to the agreement, in order for it to be valid. Regulations 29 CFR 570.35a(b)(4)(ii) requires state education agencies to keep a record of the names and addresses of each school enrolling WECEP students and the number of enrollees in each unit. The state or local educational agency office must keep a copy of the written training agreement for each student participating in the program and maintain these records for 3 years from the date of enrollment in the program.

Ira L. Mills,
Departmental Clearance Officer.

[FR Doc. E5-7576 Filed 12-20-05; 8:45 am]

BILLING CODE 4510-CF-P